DEPARTMENT OF HOMELAND SECURITY

Coast Guard

33 CFR Part 117

[Docket No. USCG-2017-0060]

RIN 1625-AA09

Drawbridge Operation Regulation; Banana River, Indian Harbour Beach, FL

AGENCY: Coast Guard, DHS.

ACTION: Notice of proposed rulemaking; withdrawal.

SUMMARY: The Coast Guard is withdrawing its notice of proposed rulemaking concerning the Mathers Bridge across the Banana River, mile 0.5, at Indian Harbour Beach, FL. The bridge owner, Brevard County Public Works Department, proposed to change the bridge operating schedule to allow for scheduled openings in order to reduce traffic delays. After careful consideration of the comments from all parties, it was determined to be in the best interest of navigation to withdraw the NPRM.

DATES: The notice of proposed rulemaking is withdrawn on April 13, 2020.

ADDRESSES: To view documents mentioned in this preamble as being available in the docket, go to https://www.regulations.gov. Type USCG-2017-0060 in the “SEARCH” box and click “SEARCH.” Click on Open Docket Folder on the line associated with this rule.

FOR FURTHER INFORMATION CONTACT: If you have questions about this notice, call or email LT Emily Sysko, Sector Jacksonville Waterways Management Division, U.S. Coast Guard; telephone 904-714-7616, email Emily.T.Sysko@uscg.mil.

SUPPLEMENTARY INFORMATION:

Background Information and Regulatory History

On April 24, 2017, we published a notice of proposed rulemaking (NPRM) entitled Drawbridge Operation Regulation; Banana River, Indian Harbour Beach, FL in the Federal Register (82 FR 18877) to solicit comments on the proposed rulemaking concerning the request to change the operating schedule. Minimal comments were received. The City of Indian Harbour Beach, FL requested to have the comment period re-opened as they believed their constituency did not have awareness of the initial notice and comment period. On October 23, 2017, we published a notice of proposed rulemaking, reopening comment period entitled “Drawbridge Operation Regulation; Banana River, Indian Harbour Beach, FL” in the Federal Register (82 FR 48939).

Due to the numerous comments received both for and against the proposed rule, on February 20, 2018, the Coast Guard published a notice of temporary deviation from regulation; request for comments entitled “Drawbridge Operation Regulation; Banana River, Indian Harbour Beach, FL” in the Federal Register (83 FR 7110). The purpose of this temporary deviation was to test the proposed schedule change to determine whether a permanent change is appropriate to better balance the needs of maritime and vehicle traffic.

Withdrawal

The Coast Guard received 199 comments, of those, 130 were against the proposal, 65 were in favor of the proposed change, three suggested removing the bridge in its entirety or build a new one, and one was unrelated to the proposed rule. The comments in favor of the proposal generally felt that placing the bridge on a schedule would help alleviate vehicular traffic on the bridge. The comments to remove or rebuild the bridge are not considered viable options. Upon reviewing the comments against the proposed change, concern was expressed that the change would increase navigation delays, introduce unnecessary hazards to navigation by limiting the bridge openings and create longer bridge openings in an area with a high volume of recreational boaters. The Coast Guard acknowledges all of the above safety concerns, and for that reason, we feel that any benefits of the proposed schedule change at the Mathers Bridge do not outweigh the additional hazards to vessels and mariners transiting the area around the bridge. The current regulation as written in 33 CFR 117.263 shall remain in effect.

Authority

The authority citation for part 117 continues to read as follows:

33 U.S.C. 499; 33 CFR 1.05-1; Department of Homeland Security Delegation No. 0170.1.

Dated: April 7, 2020.
Eric C. Jones,
Rear Admiral, U.S. Coast Guard, Commander, Seventh Coast Guard District.

[FR Doc. 2020-07637 Filed 4-10-20; 8:45 am]

BILLING CODE 9110-04-P